DEPARTMENT OF COMMERCE

International Trade Administration

[A-351-838, A-331-802, A-533-840, A-549-822, A-552-802]

Certain Frozen Warmwater Shrimp From Brazil, Ecuador, India, Thailand, and the Socialist Republic of Vietnam: Notice of Extension of Time Limits for the Preliminary Results of the Second Administrative Reviews

AGENCY: Import Administration, International Trade Administration, Department of Commerce.

EFFECTIVE DATE: October 26, 2007.

FOR FURTHER INFORMATION CONTACT: Kate Johnson (Brazil) at (202) 482-4929, David Goldberger (Ecuador) at (202) 482-4136, Elizabeth Eastwood (India) at (202) 482-3874, Irina Itkin (Thailand) at (202) 482-0656, and Irene Gorelik (Vietnam) at (202) 482-6905, AD/CVD Operations, Offices 2 and 9, Import Administration, International Trade Administration, U.S. Department of Commerce, 14th Street and Constitution Avenue, NW., Washington, DC 20230.

SUPPLEMENTARY INFORMATION:

Background

On April 6, 2007, the Department of Commerce (the Department) published notices of initiation of the administrative reviews of the antidumping duty orders on certain frozen warmwater shrimp from Brazil, Ecuador, India, and Thailand, and the Socialist Republic of Vietnam (Vietnam), covering the period February 1, 2006, through January 31, 2007. See Notice of Initiation of Administrative Reviews of the Antidumping Duty Orders on Certain Frozen Warmwater Shrimp from Brazil, Ecuador, India, and Thailand, 72 FR 17100 (April 6, 2007); and Notice of Initiation of Administrative Reviews of the Antidumping Duty Orders on Frozen Warmwater Shrimp from the Socialist Republic of Vietnam and the People's Republic of China, 72 FR 17095 (April 6, 2007).

In July 2007, after issuing quantity and value questionnaires and receiving responses, the Department selected mandatory respondents in each of the above-mentioned administrative reviews. See the July 17, 2007, Memoranda from James Maeder to Stephen J. Claeys entitled: “Antidumping Duty Administrative Review of Certain Frozen Warmwater Shrimp from India: Selection of Respondents for Individual Review"; and “Antidumping Duty Administrative Review of Certain Frozen Warmwater Shrimp from Thailand: Selection of Respondents for Individual Review"; the July 18, 2007, Memorandum from James C. Doyle to Stephen J. Claeys entitled: “Antidumping Duty Administrative Review of Certain Frozen Warmwater Shrimp from the Socialist Republic of Vietnam: Selection of Respondents"; the July 19, 2007, Memoranda from James Maeder to Stephen J. Claeys entitled: “Antidumping Duty Administrative Review of Certain Frozen Warmwater Shrimp from Brazil: Selection of Respondents for Individual Review"; and “Antidumping Duty Administrative Review of Certain Frozen Warmwater Shrimp from Ecuador: Selection of Respondents for Individual Review.”

In August and September 2007, the Department rescinded the Brazil, Ecuador, and Thailand administrative reviews with respect to certain companies. See Certain Frozen Warmwater Shrimp from Brazil: Partial Rescission of the Antidumping Duty Administrative Review, 72 FR 48616 (August 24, 2007); Certain Frozen Warmwater Shrimp from Ecuador: Partial Rescission of the Antidumping Duty Administrative Review, 72 FR 48616 (August 24, 2007); and Certain Frozen Warmwater Shrimp from Thailand; Partial Rescission of Antidumping Duty Administrative Review, 72 FR 50931 (September 5, 2007).

Extension of Time Limit of Preliminary Results

Section 751(a)(3)(A) of the Tariff Act of 1930, as amended (the Act), requires the Department to make a preliminary determination in an administrative review within 245 days after the last day of the anniversary month of an order or finding for which a review is requested. Consistent with section 751(a)(3)(A) of the Act, the Department may extend the 245-day period to 365 days if it is not practicable to complete the review within a 245-day period. The deadline for the preliminary results of these reviews is currently October 31, 2007.

The Department determines that completion of the preliminary results of these administrative reviews within the statutory time period is not practicable. Due to the additional time needed for respondent selection, the Department was unable to issue its initial antidumping duty questionnaires to the selected companies until July 2007 in each of these administrative reviews. The Department thus requires additional time to conduct its analysis for each company in each of these reviews. Therefore, in accordance with section 751(a)(3)(A) the Act, we are extending the time period for issuing the preliminary results of these reviews by 120 days, until February 28, 2008. The final results continue to be due 120 days after the publication of the preliminary results.

This notice is published pursuant to section 751(a)(3)(A) of the Act and 19 CFR 351.213(h)(2).

Dated: October 22, 2007.
Stephen J. Claeys,
Deputy Assistant Secretary for Import Administration.

[FR Doc. E7-21110 Filed 10-25-07; 8:45 am]

BILLING CODE 3510-DS-S